DEPARTMENT OF HOMELAND SECURITY

Coast Guard

33 CFR Part 165

[Docket No. USCG-2014-0034]

RIN 1625-AA00

Safety Zone, Texas City Channel, Texas City, TX

AGENCY: Coast Guard, DHS.

ACTION: Final rule.

SUMMARY: The Coast Guard published a direct final rule and request for comments on April 8, 2014, removing the Snake Island Safety Zone, also known as Shoal Point, within the Texas City Channel. We did not receive any adverse comments or any notices of intent to submit an adverse comment. Therefore, the rule will go into effect as scheduled to remove the existing regulation because it places general restrictions on vessels which are no longer necessary.

DATES: This final rule is effective July 14, 2014.

FOR FURTHER INFORMATION CONTACT: For information about this regulation call or email LCDR Xochitl Castañeda, Sector Houston-Galveston, Houston, Texas, at telephone (281) 464-4891, email Xochitl.L.Castaneda@Uscg.mil. For information about viewing or submitting material to the docket, call Cheryl Collins, Program Manager, Docket Operations, telephone 202-366-9826, toll free 1-800-647-5527.

Discussion

The Coast Guard published a direct final rule on April 8, 2014 in the Federal Register (79 FR 19289) to disestablish the Snake Island safety zone, also known as Shoal Point, within the Texas City channel. The Coast Guard did not receive any comment on this rulemaking. The direct final rule will go into effect on July 7, 2014.

List of Subjects in 33 CFR Part 165

Harbors, Marine safety, Navigation (water), Reporting and recordkeeping requirements, Security measures, Waterways.

For the reasons discussed herein and in the direct final rule, published April 8, 2014, the Coast Guard amends 33 CFR part 165 as follows:

PART 165—REGULATED NAVIGATION AREAS AND LIMITED ACCESS AREAS

1. The authority citation for part 165 continues to read as follows:

Authority: 33 U.S.C. 1231; 46 U.S.C. Chapter 701; 50 U.S.C. 191; 33 CFR 1.05-1(g), 6.04-1, 6.04-6, and 160.5; Pub. L. 107-295, 116 Stat. 2064; Department of Homeland Security Delegation No. 0170.1.

§ 165.804 [Removed]

2. Remove § 165.804.

Dated: June 3, 2014.
Brian K. Penoyer,
Captain, U.S. Coast Guard, Captain of the Port Houston-Galveston.

[FR Doc. 2014-14633 Filed 6-23-14; 8:45 am]

BILLING CODE 9110-04-P